DEPARTMENT OF TRANSPORTATION

Coast Guard

33 CFR Part 117

[CGD09-01-148]

RIN-2115-AE47

Drawbridge Operation Regulations; Chicago River, IL

AGENCY: Coast Guard, DOT.

ACTION: Notice of proposed rulemaking.

SUMMARY: The Coast Guard proposes to revise the operating regulation governing drawbridges over Chicago River waterways. The proposed rule would add Division Street bridge, mile 3.30, over the North Branch of Chicago River, to the current list of bridges not required to open for navigation; remove the requirement for Kinzie Street bridge, mile 1.81 over North Branch of Chicago River, and Cermak Road bridge, mile 4.05 over South Branch of Chicago River, to open on signal for commercial vessels due to the recently accomplished increases in vertical clearances; require a 12-hour advance notice requirement from commercial vessels year-round for City of Chicago moveable bridges; update ownership of certain railroad bridges; specify rush hour times (7 a.m. to 10 a.m. and 4 p.m. to 6:30 p.m.—Monday through Friday, with the exception of Federal holidays) that City of Chicago bridges would not be required to open for any vessels; and generally make the regulation easier to read and understand.

DATES: Comments must be received on or before February 25, 2002.

ADDRESSES: Comments may be mailed or delivered to: Commander (obr), Ninth Coast Guard District, 1240 East Ninth Street, Room 2019, Cleveland, OH, 44199-2060 between 8 a.m. and 3 p.m., Monday through Friday, except Federal holidays. The telephone number is (216) 902-6084.

FOR FURTHER INFORMATION CONTACT: Mr. Scot M. Striffler, Project Manager, Ninth Coast Guard District Bridge Branch, at (216) 902-6084.

SUPPLEMENTARY INFORMATION:

Request for Comments

The Coast Guard encourages interested persons to participate in this rulemaking by submitting written data, views or arguments for or against this rule. Persons submitting comments should include names and addresses, identify the rulemaking [CGD09-01-148] and the specific section of this proposal to which each comment applies, and give the reason(s) for each comment. Please submit all comments and attachments in an unbound format, no larger than 8½ by 11 inches, suitable for copying and electronic filing. Persons wanting acknowledgement of receipt of comments should enclose a stamped, self-addressed postcard or envelope.

The Coast Guard plans no public hearing. Individuals may request a public hearing by writing to the address under ADDRESSES. The request should include the reasons why a hearing would be beneficial. If the Coast Guard determines that the opportunity for oral presentation will aid this rulemaking, we will hold a public hearing at a time and place announced by a subsequent notice in the Federal Register.

Background and Purpose

The City of Chicago has requested that Commander, Ninth Coast Guard District, revise the operating regulations for Chicago City operated drawbridges over Chicago River waterways. The primary changes are: (1) Remove the requirements for Kinzie Street bridge over the North Branch and Cermak Road bridge over the South Branch to open on signal for commercial vessels due to restrictive clearances. Both bridges have been raised to provide vertical clearances consistent with other fixed and moveable bridges on the Chicago River system. (2) Add Division Street bridge over the North Branch of Chicago River to the current list of drawbridges not required to open for vessels. (3) Require a 12-hour advance notice requirement for bridge openings from commercial vessels for City of Chicago moveable bridges throughout the year. (4) Clarify rush hour times (7 a.m. to 10 a.m. and 4 p.m. to 6:30 p.m.—Monday through Friday, with the exception of Federal holidays) that City of Chicago bridges would not be required to open for any vessels.

Discussion of Proposed Rule

The current operating regulations for Chicago River bridges are contained in 33 CFR 117.391. This section was last changed on October 6, 1995 (60 FR 52311) to establish opening schedules for recreational vessels. This proposed rule only alters the sections pertaining to recreational vessels by specifying rush hour times (7 a.m. to 10 a.m. and 4 p.m. to 6:30 p.m.—Monday through Friday, with the exception of Federal holidays) that bridges would not be required to open.

The City of Chicago requested that both Kinzie Street bridge over North Branch and Cermak Road bridge over South Branch be granted the same status as all other City of Chicago bridges and only be required to open for commercial vessels if at least 12-hours advance notice is provided. The bridges have been raised to provide vertical clearances consistent with other fixed and moveable bridges on the Chicago River system.

The City has also requested that Division Street bridge over North Branch not be required to open for vessels. This would place the bridge in the same status as all other City bridges for a vessel proceeding northbound on North Branch above Division Street. There is adequate clearance for commercial vessels equipped with retractable pilothouses to pass under each of these bridges. There are currently no recreational vessel facilities from Division Street northward that require the opening of drawbridges for masted vessels. A marina south of Division Street services masted vessels, therefore, all bridges southward are still required to open in accordance with the articles pertaining to recreational vessels. Bridge opening logs provided by the City indicate that the last request for a bridge opening at Division Street occurred in 1982.

This proposed rule would also update the current ownership of railroad bridges on Chicago River and remove the emergency provisions specifically listed in paragraph (e). These provisions apply to all drawbridges, as noted in 33 CFR 117.31, and need not be re-stated in this regulation.

Regulatory Evaluation

This proposed rule is not a significant regulatory action under section 3(f) of Executive Order 12866 and does not require an assessment of potential costs and benefits under section 6(a)(3) of that order. The Office of Management and Budget has not reviewed it under that Order. It is not significant under the regulatory policies and procedures of the Department of Transportation (DOT) (44 FR 11040; February 26, 1979). The Coast Guard expects the economic impact of this rule to be so minimal that a full Regulatory Evaluation under paragraph 10e of the regulatory policies and procedures of DOT is unnecessary.

This determination is based on the current and prospective facilities and needs of all navigation on the Chicago River system.

Small Entities

Under the Regulatory Flexibility Act (5 U.S.C. 601 et seq.), the Coast Guard must consider whether this proposed rule will have a significant impact on a substantial number of small entities. “Small entities” may include small businesses and not-for-profit organizations that are independently owned and operated and are not dominant in their fields, and governmental jurisdictions with populations of less than 50,000 people.

The identified small entities operating on Chicago River would not be significantly affected by the proposed rule. Marinas located on the North Branch and South Branch of Chicago River would still have bridge openings during designated times. However, rush hour times, where no openings would be required, have been expanded. These entities do not require openings of bridges from Division Street northward on North Branch. In addition, the three identified commercial tug companies operating on Chicago River do not require openings of Chicago City bridges.

Therefore, the Coast Guard certifies under 5 U.S.C 605(b) that this proposed rule will not have a significant economic impact on a substantial number of small entities.

If you think that your business, organization, or governmental jurisdiction qualifies as a small entity and that this proposed rule would have a significant economic impact on it, please submit a comment (see ADDRESSES) explaining why you think it qualifies and how and to what degree this proposed rule would economically affect it.

Assistance for Small Entities

Under section 213(a) of the Small Business Regulatory Enforcement Fairness Act of 1996 (Public Law 104-121), we want to assist small entities in understanding this proposed rule so that they can better evaluate its effects on them and participate in the rulemaking. If the proposed rule would affect your small business, organization, or governmental jurisdiction and you have questions concerning its provisions or options for compliance, please contact the Bridge Administration Branch, Ninth Coast Guard District, at the address above.

Collection of Information

This proposed rule would call for no new collection of information requirement under the Paperwork Reduction Act (44 U.S.C. 3501 et seq.).

Federalism

The Coast Guard has analyzed this proposed rule under the principles and criteria contained in Executive Order 13132, and determined that this rule does not have federalism implications under that Order.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This proposed rule will not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and does not concern an environmental risk to health or risk to safety that may disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibility between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and it is not likely to have a significant adverse effect on the supply, distribution, or use of energy. It has not been designated by the Administrator of the Office of Information and Regulatory Affairs as a significant energy action. Therefore, it does not require a Statement of Energy Effects under Executive Order 13211.

Environment

The Coast Guard considered the environmental impact of this proposed rule and concluded that, under figure 2-1, paragraph 32(e) of Commandant Instruction M16475.lD, this proposed rule is categorically excluded from further environmental documentation. A “Categorical Exclusion Determination” is available in the docket where indicated under ADDRESSES.

List of Subjects in 33 CFR Part 117 Bridges.

For reasons set out in the preamble, the Coast Guard proposes to amend Part 117 of Title 33, Code of Federal Regulations, as follows:

PART 117—DRAWBRIDGE OPERATION REGULATIONS

1. The authority citation for Part 117 continues to read as follows:

Authority: 33 U.S.C. 499; 49 CFR 1.46; 33 CFR 1.05-1(g); section 117.255 also issued under the authority of Pub. L. 102-587, 106 Stat. 5039.

2. In § 117.391, revise the introductory text, paragraphs (a)(1), (b)(1)(iv), (b)(2), and (c); and remove paragraphs (d) and (e), to read as follows:

§ 117.391 Chicago River.

The draws of the bridges operated by the City of Chicago over the Main Branch of Chicago River, the bridges on the North Branch of Chicago River from the Main Branch to North Halsted Street, mile 2.65, and bridges on the South Branch of Chicago River from the Main Branch to South Ashland Avenue, mile 4.47, shall operate as follows:

(a) For commercial vessels:

(1) All bridges shall open on signal if at least 12-hours advance notice is provided to the Chicago City Bridge Desk prior to the intended time of passage; except that, from Monday through Friday between the hours of 7 a.m. and 10 a.m., and between the hours of 4 p.m. and 6:30 p.m., except for Federal holidays, the draws need not open for the passage of vessels.

* * * * *

(b) * * *

(1) * * *

(i) * * *

(iv) That draws shall open at times in addition to those listed in paragraphs (b)(1)(i) through (b)(1)(iii) of this section, after notice has been given at least 20 hours in advance requesting passage for a flotilla of at least five vessels. However, the bridges need not open Monday through Friday from 7 a.m. to 10 a.m., and 4 p.m. to 6:30 p.m., except for Federal holidays.

(2) From December 1 through March 31, the draws shall open on signal if at least 48 hours notice is given. However, the bridges need not open Monday through Friday from 7 a.m. to 10 a.m., and 4 p.m. to 6:30 p.m., except for Federal holidays.

* * * * *

(c) The following bridges need not be opened for the passage of vessels: The draws of South Damen Avenue, mile 6.14, over South Branch of Chicago River; all highway drawbridges between South Western Avenue, mile 6.7, and Willow Springs Road, mile 19.4, over Chicago Sanitary and Ship Canal; North Halsted Street, mile 2.85, and Division Street, mile 2.99, over North Branch Canal of Chicago River; and Division Street, mile 3.30, North Avenue, mile 3.81, Cortland Avenue, mile 4.48, Webster Avenue, mile 4.85, North Ashland Avenue, mile 4.90, and Union Pacific Railroad, mile 5.01, over North Branch of Chicago River.

Dated: November 27, 2001.
James D. Hull,
Rear Admiral, U.S. Coast Guard, Commander, Ninth Coast Guard District.

[FR Doc. 01-31842 Filed 12-26-01; 8:45 am]

BILLING CODE 4910-15-P